DEPARTMENT OF TRANSPORTATION

Federal Railroad Administration

Notice Rescinding a Notice of Intent To Prepare a Programmatic Environmental Impact Statement: High Speed Rail Corridor Las Vegas, Nevada to Anaheim, California

AGENCY: Federal Railroad Administration (FRA), U.S. Department of Transportation (DOT).

ACTION: Notice rescinding intent to prepare an Environmental Impact Statement (EIS).

SUMMARY: The Federal Railroad Administration (FRA) is issuing this notice to advise the public that FRA is rescinding the Notice of Intent (NOI) to prepare a programmatic environmental impact statement (PEIS) for the California-Nevada Interstate Maglev Project in cooperation with the project sponsor, the Nevada Department of Transportation. FRA published the original NOI in the Federal Register on May 20, 2004. This rescission is due to inactivity of this PEIS process for more than five years.

FOR FURTHER INFORMATION CONTACT: Ms. Stephanie Perez-Arrieta, Environmental Protection Specialist, Federal Railroad Administration, 1200 New Jersey Avenue Southeast, (Mail Stop 20), Washington, DC 20590, telephone (202) 493-0388.

SUPPLEMENTARY INFORMATION: During the 1990s and 2000s, the California-Nevada Super Speed Train Commission (CNSSTC), a public agency chartered within the State of Nevada, conducted Federally sponsored studies to examine the feasibility and the environmental impacts of linking the Las Vegas area with various points in the Los Angeles region using a magnetic levitation technology high-speed ground transportation system. During the late 1990s, FRA was implementing the Maglev Deployment Program (Program) created by Congress in the Transportation Equity Act for the 21st Century (Pub. L. 105-178, June 9, 1998). The purpose of the Program was to demonstrate the feasibility of maglev technology. In addition to a number of feasibility studies, FRA prepared a PEIS addressing the potential for significant environmental impact from the Program that included a Las Vegas-Primm project as one of seven projects analyzed in the PEIS. The notice of availability for the PEIS was published on May 4, 2001.

The Department of Transportation and Related Agencies Appropriations Act, 2003 (Pub. L.108-7), which provides appropriations for the FRA and other agencies, included funds specifically to conduct additional design, engineering and environmental studies concerning the California-Nevada Interstate Maglev Project under the FRA's Next Generation High Speed Rail Technology Demonstration Program. On May 20, 2004, FRA issued a notice of intent to prepare a PEIS for the California-Nevada Interstate Maglev project. FRA intended for this PEIS to draw on environmental analysis already completed, including the Las Vegas-Primm project.

The only activity completed for the PEIS was scoping in 2004. No further work has been completed on the PEIS since that time. Due to a lack of activity for more than five years, FRA is issuing this notice terminating the preparation of the PEIS.

Renee Cooper,
Staff Director, Office of Passenger and Freight Programs.

[FR Doc. 2013-22600 Filed 9-17-13; 8:45 am]

BILLING CODE 4910-06-P